DEPARTMENT OF AGRICULTURE

Cooperative State Research, Education, and Extension Service

Request for Proposals (RFP): Food and Agricultural Sciences National Needs Graduate Fellowship Grants Program for Fiscal Years 2001 and 2002

AGENCY: Cooperative State Research, Education, and Extension Service, USDA.

ACTION: Notice of request for proposals and request for input.

SUMMARY: The Cooperative State Research, Education, and Extension Service (CSREES) announces the availability of grant funds and requests proposals for the Food and Agricultural Sciences National Needs Graduate Fellowship Grants Program for Fiscal Years (FYs) 2001 and 2002, and for 2001 Supplemental Grants for Special International Study or Thesis/Dissertation Research Travel Allowances. Proposals are hereby requested from eligible institutions as identified herein for competitive consideration for Food and Agricultural Sciences National Needs Graduate Fellowship Grant awards. In addition, CSREES seeks proposals from recipients of currently active Food and Agricultural Sciences National Needs Fellowship Grants for supplemental grants to support special international study or thesis/dissertation research experiences for current Fellows.

CSREES also is soliciting comments regarding this RFP from any interested party. Such comments will be considered in the development of any future requests for proposals for this program. Such comments will be used in meeting the requirements of section 103(c)(2) of the Agricultural Research, Extension, and Education Reform Act of 1998 (AREERA).

DATES: All proposals for Food and Agricultural Sciences National Needs Graduate Fellowship Grants must be received on or before July 10, 2001. Supplemental Grant proposals to support special international study or thesis/dissertation research for current Fellows must be received by October 1, 2001. Proposals not received on or before these dates, as appropriate, will not be considered for funding.

Comments are requested within six months from the issuance of this RFP. Comments received after that date will be considered to the extent practicable.

ADDRESSES: For Food and Agricultural Sciences National Needs Graduate Fellowship Grant proposals, hand-delivered proposals (brought in person by the applicant or through a courier service) must be received on or before July 10, 2001, at the following address: National Needs Graduate Fellowship Grants Program; c/o Proposal Services Unit Office of Extramural Programs Cooperative State Research, Education, and Extension Service; U.S. Department of Agriculture; Room 1307, Waterfront Centre; 800 9th Street, SW.; Washington, DC 20024. The telephone number is (202) 401-5048. Proposals transmitted via facsimile (fax) machine will not be accepted. Proposals submitted by mail must be received on or before July 10, 2001. Proposals submitted by mail should be sent to the following address: National Needs Graduate Fellowship Grants Program; c/o Proposal Services Unit; Office of Extramural Programs; Cooperative State Research, Education, and Extension Service; U.S. Department of Agriculture; STOP 2245; 1400 Independence Avenue, SW.; Washington, DC 20250-2245.

For International Study or Thesis/Dissertation Research Supplemental Grant proposals, hand-delivered proposals (brought in person by the applicant or through a courier service) must be received prior to October 1, 2001, at the following address: Graduate Fellowship (International) Supplemental Grants Program; c/o Proposal Services Unit; Office of Extramural Programs; Cooperative State Research, Education, and Extension Service; U.S. Department of Agriculture; Room 1307, Waterfront Centre; 800 9th Street, SW.; Washington, DC 20024. The telephone number is (202) 401-5048. Proposals transmitted via a facsimile (fax) machine will not be accepted. Proposals submitted by mail must be received prior to October 1, 2001. Proposals submitted by mail should be sent to the following address: Graduate Fellowship (International) Supplemental Grants Program; c/o Proposal Services Unit; Office of Extramural Programs; Cooperative State Research, Education, and Extension Service; U.S. Department of Agriculture; STOP 2245; 1400 Independence Avenue, SW.; Washington, DC 20250-2245.

Written user comments should be submitted by mail to: Policy and Program Liaison Staff; Office of Extramural Programs; USDA-CSREES; STOP 2299; 1400 Independence Avenue, SW.; Washington, DC 20250-2299; or via e-mail to: RFP-OEP@reeusda.gov. (This e-mail address is intended only for receiving stakeholder input comments regarding this RFP, and not for requesting information or forms.)

FOR FURTHER INFORMATION CONTACT: Dr. Howard Sandberg; Higher Education Programs; Cooperative State Research, Education, and Extension Service; U.S. Department of Agriculture, STOP 2251; 1400 Independence Avenue, SW.; Washington, DC 20250-2251; Telephone: (202) 720-2193; E-mail: hsandberg@reeusda.gov.

SUPPLEMENTARY INFORMATION:

Table of Contents

Stakeholder Input

Catalog of Federal Domestic Assistance

Part I. Food and Agricultural Sciences National Needs

Graduate Fellowship Grants

A. Administrative Provisions and Legislative Authority

B. Program Description

1. Purpose of the Program

2. Targeted National Need Areas

3. Eligibility

4. Degree Level Supported

5. Proposal Submission Limitations

6. Limitations on Number of Fellowships

7. Available Funding

8. Stipend Level

C. Selection Process and Evaluation Criteria

D. How to Obtain Application Materials

E. Submission of a Proposal

1. Intent to Submit a Proposal

2. What to Submit

3. Where and When to Submit

4. Acknowledgment of Proposals

F. CRIS Reports and Impact Reports

Part II. 2001 Special International Study or Thesis/Dissertation Research Travel Allowances

A. Administrative Provisions and Legislative Authority

B. Program Description

C. Selection Process and Evaluation Criteria

D. How to Obtain Application Materials

E. What to Submit

F. Where and When to Submit

G. Impact Reports

Stakeholder Input

CSREES is requesting comments regarding this FY 2001 RFP from any interested party. In your comments, please include the name of the program and the fiscal year solicitation for applications to which you are responding. These comments will be considered in the development of the next solicitation for applications for the program. Such comments will be used in meeting the requirements of section 103(c)(2) of the Agricultural Research, Extension, and Education Reform Act of 1998, 7 U.S.C. 7613(c). Comments should be submitted as provided for in the Addresses and Dates portions of this notice.

Catalog of Federal Domestic Assistance

This program is listed in the Catalog of Federal Domestic Assistance under No. 10.210, Food and Agricultural Sciences National Needs Graduate Fellowship Grants.

Part I. Food and Agricultural Sciences National Needs Graduate Fellowship Grants

A. Administrative Provisions and Legislative Authority

This Program is subject to the provisions found at 7 CFR part 3402. 7 CFR part 3402 sets forth procedures to be followed when submitting grant proposals for food and agricultural sciences national needs graduate fellowship grants, rules governing the evaluation of proposals and the awarding of grants, and regulations relating to the post-award administration of such grant projects.

Legislative authority for this program is contained in section 1417(b)(6) of the National Agricultural Research, Extension, and Teaching Policy Act of 1977, as amended (NARETPA) (7 U.S.C. 3152(b)(6)).

In accordance with the statutory authority, subject to the availability of funds, the Secretary of Agriculture, who has delegated the authority to the Administrator of CSREES, may make competitive grants, for periods not to exceed five years, to land-grant colleges and universities, to colleges and universities having significant minority enrollments and a demonstrable capacity to carry out the teaching of food and agricultural sciences, and to other colleges and universities having a demonstrable capacity to carry out the teaching of food and agricultural sciences, to administer and conduct graduate fellowship programs to help meet the Nation's needs for development of scientific and professional expertise in the food and agricultural sciences. For this program, the term “food and agricultural sciences” means basic, applied, and developmental research, extension, and teaching activities in food and fiber, agriculture, renewable natural resources, forestry, and physical and social sciences, including activities related to subject areas defined in section 1404(8) of NARETPA, 7 U.S.C. 3103(8).

B. Program Description

1. Purpose of the Program

This program seeks to award grants for training students for a doctoral degree at colleges and universities which have demonstrable teaching and research competencies in the food and agricultural sciences. The grants are specifically intended to support fellowship programs that encourage outstanding students to pursue and complete their degree at such institutions in an area of the food and agricultural sciences for which there is a national need for the development of scientific and professional expertise.

2. Targeted National Need Areas

Food and agricultural science areas appropriate for fellowship grant applications are those which are directly related to one of the following: (1) Animal, microbial, or plant molecular biology including genomics or bioinformatics; (2) natural resources and environment; (3) agricultural systems or natural resource engineering; (4) marketing or management; (5) food science or human nutrition; or (6) human sciences. A proposal is restricted to one national need area.

3. Eligibility

Proposals may be submitted by institutions that confer a doctoral degree in a national need area. For proposals involving more than one institution, all institutions must meet the eligibility requirements. Proposals also may be submitted by a research foundation maintained by an eligible college or university. Eligibility requirements are discussed further in 7 CFR 3402.3.

4. Degree Level Supported

In FYs 2001 and 2002, only the doctoral level of study will be supported.

5. Proposal Submission Limitations

No limitations are placed on the number of proposals which can be submitted by a college or university.

6. Limitations on Number of Fellowships

There is no limit on the number of fellowships in the single national need area which can be requested in the proposal. While proposals must document institution willingness to recruit and train the number of fellows requested, CSREES may fund fewer fellows than requested in a proposal. Also, the maximum total amount of funds from this program that may be awarded to an institution in FYs 2001 and 2002 is limited to $276,000.

7. Available Funding

Subject to the enactment of the appropriations acts that will provide funds to CSREES for this program in FYs 2001 and 2002, CSREES anticipates that approximately $5.6 million will be available for fellowship grants for the FYs 2001 and 2002 combined competition, including approximately $2.8 million in anticipated FY 2001 appropriations and approximately $2.8 million in anticipated FY 2002 appropriations. Contingent on the availability of these funds, approximately $934,000 will be allocated to each of the six national need areas. This program is highly competitive, and it is anticipated that available funding will support approximately 81 doctoral fellows. No-year funds drawn from expired fellowship grants with unspent funds remaining may be used to fund additional fellows. Please note that Congress has not enacted the FY 2002 appropriation bills for the Department. Therefore, the $5.6 million cited for FYs 2001 and 2002 grants is only tentative, and USDA is not bound by this estimate.

8. Stipend Level

Each institution funded will receive $69,000 for each doctoral fellowship awarded. However, it is anticipated that total program funds available will not be evenly divisible by $69,000. Therefore, one fellowship may be supported on a partial basis with a lesser amount of funds, or one fellowship may be supported fully by a combination of FYs 2001 and 2002 funds and unspent funds remaining from expired fellowship grants. Except in the case of a partially funded fellowship, fellowship monies must be used to: (1) Support the same doctoral fellow for three years at $22,000 per year; and (2) provide for an institution annual cost-of-education allowance of $1,000. Total funds awarded to an institution under the program in FYs 2001 and 2002 shall not exceed $276,000.

C. Selection Process and Evaluation Criteria

Section 223 of the Agricultural Research, Extension, and Education Reform Act of 1998, Pub. L. No. 105-185, amended section 1417 of NARETPA to require that priorities be given in awarding grants for certain teaching enhancement projects under section 1417(b) of NARETPA. This program is authorized under section 1417(b). CSREES considers all applications received in response to this solicitation as teaching enhancement project applications. To implement the new priorities for proposals submitted for the FYs 2001 and 2002 competition, the evaluation criteria used to evaluate proposals, as provided in the administrative provisions for this program (7 CFR 3402.19), have been modified to include new criteria for proposals demonstrating enhanced coordination among eligible institutions and focusing on innovative, multidisciplinary education programs, material, or curricula. The following criteria and weights will be used to evaluate proposals submitted for funding to the FYs 2001 and 2002 competition:

(A) 25 points—The degree to which the proposal establishes clearly that the proposed program of graduate study will result in the development of outstanding scientific/professional expertise related to a national need area and will do so in a reasonable period of time.

(B) 25 points—The degree to which the proposal contains any special features such as a focus on innovative, multidisciplinary education programs, material, or curricula; enhanced coordination among institutions eligible for grants under the Food and Agricultural National Needs Fellowship Grant Program; an inter-disciplinary, multi-disciplinary, or cross-disciplinary approach, an unusual collateral specialization in a related discipline, experiential learning opportunities, unique mentoring programs, seminars, or a multi-university collaborative approach.

(C) 20 points—The degree to which the proposal substantiates clearly that the institution's faculty, facilities and equipment, instructional support resources, and other academic attributes are excellent for providing outstanding graduate study and research at the forefront of science and technology related to the chosen area of national need.

(D) 20 points—The degree to which the institution's plans and procedures for recruiting and selecting academically outstanding Fellows and for advising and guiding Fellows through a program of study reflect excellence as documented in the proposal.

(E) 5 points—The degree to which supplementary summary data substantiate program quality in the targeted need area.

(F) 5 points—The quality of the proposal as reflected by its substantive content, organization, clarity, and accuracy.

D. How To Obtain Application Materials

An Application Kit containing program application materials can be downloaded from the CSREES, Office of Higher Education Programs (HEP) web site at http://www.reeusda.gov/serd/hep/hep.htm or will be made available to eligible institutions upon request. These materials include the administrative provisions, this Request for Proposals, Summary Information, forms, instructions, and other relevant information needed to prepare and submit grant proposals. Copies of the Application Kit may be requested from the Proposal Services Unit; Office of Extramural Programs; Cooperative State Research, Education, and Extension Service; U.S. Department of Agriculture; STOP 2245; 1400 Independence Avenue, SW.; Washington, DC 20250-2245. The telephone number is 202-401-5048. When contacting the Proposal Services Unit, please indicate that you are requesting forms for the FYs 2001 and 2002 National Needs Graduate Fellowship Grants Program.

Application materials also may be requested via Internet by sending a message which states that you want to receive a copy of the application materials for the FY 2001/2002 National Needs Graduate Fellowship Grants Program with your name, mailing address (not e-mail) and phone number to psb@reeusda.gov. The materials will then be mailed to you (not e-mailed) as quickly as possible.

E. Submission of a Proposal

1. Intent To Submit a Proposal

Submission of an Intent to Submit a Proposal (Form CSREES-706) is requested for the FYs 2001 and 2002 competition and is due May 11, 2001. Form CSREES-706 can be sent by FAX to 202-720-2030; by courier to Graduate Fellowship Program; CSREES/SERD/HEP; Waterfront Centre; 3rd Floor, Room 3251; 800 9th Street, SW.; Washington, DC 20024; or by mail to Graduate Fellowship Program, USDA/CSREES/SERD/HEP, 1400 Independence Ave., SW.; STOP 2251; Washington, DC 20250-2251.

2. What To Submit

An original and six (6) copies of a proposal must be submitted. Proposals should contain all requested information when submitted. Each proposal should be typed on 8½″ x 11″ white paper, double-spaced, and on one side of the page only. Please note that the text of the proposal should be prepared using a font no smaller than 12 point and one-inch margins. All copies of the proposal must be submitted in one package. Each copy of the proposal must be stapled securely in the upper left-hand corner (DO NOT BIND).

The proposal should be paginated and a Table of Contents should be included preceding the proposal narrative. Applicants are cautioned to comply with the 20-page limitation for the narrative section of the proposal. Applicants also are cautioned to include summary faculty vitae using Summary Vita—Teaching Proposal (Form CSREES-708). More detailed information on the narrative, summary vita, and other portions of a proposal is provided in subpart C of 7 CFR part 3402.

3. Where and When To Submit

Hand-delivered proposals (brought in person by the applicant or through a courier service) must be received on or before July 10, 2001, at the following address: National Needs Graduate Fellowship Grants Program; c/o Proposal Services Unit; Office of Extramural Programs; Cooperative State Research, Education, and Extension Service; U.S. Department of Agriculture; Room 1307, Waterfront Centre; 800 9th Street, SW.; Washington, DC 20024. The telephone number is (202) 401-5048. Proposals transmitted via facsimile (fax) machine will not be accepted.

Proposals submitted through the mail must be received on or before July 10, 2001. Proposals submitted through the mail should be sent to the following address: National Needs Graduate Fellowship Grants Program; c/o Proposal Services Unit; Office of Extramural Programs; Cooperative State Research, Education, and Extension Service; U.S. Department of Agriculture; STOP 2245; 1400 Independence Avenue, SW., Washington, DC 20250-2245.

4. Acknowledgment of Proposals

The receipt of all proposals will be acknowledged via e-mail. Therefore it is important to include an e-mail address on the Proposal Cover Page (Form CSREES-701) when applicable. This acknowledgment will contain a proposal identification number. Once your proposal has been assigned a proposal number, please cite that number in future correspondence.

F. Current Research Information System (CRIS) Reports and Impact Reports

Institutions will be asked to submit annual CRIS Reports in partial fulfillment of the reporting requirements of 7 CFR 3402.25(a). Also, institutions will be asked to submit reports describing significant impacts generated by the activities and accomplishments of the fellows in partial fulfillment of the reporting requirements of 7 CFR 3402.25.

Part II. 2001 Special International Study or Thesis/Dissertation Research Travel Allowances

A. Administrative Provisions and Legislative Authority

This Program is subject to the provisions found at 7 CFR part 3402. 7 CFR 3402.5(e) sets forth procedures to be followed when submitting supplemental grant proposals for special international study or thesis/dissertation research travel allowances. 7 CFR part 3402, subparts E and F set forth rules governing the evaluation of proposals and the awarding of grants, and regulations relating to the post-award administration of such grant projects.

Legislative authority for this program is contained in section 1417(b)(6) of the National Agricultural Research, Extension, and Teaching Policy Act of 1977, as amended (NARETPA) (7 U.S.C. 3152(b)(6)).

B. Program Description

CSREES has determined that a new competition for special international study or thesis/dissertation research travel allowances will be held during FY 2001, and hereby solicits proposals for competitive supplemental grants. Proposals may be submitted by universities or colleges who currently have active Food and Agricultural Sciences National Needs Graduate Fellowship Grants. Eligibility for this opportunity is limited to any current Fellow with sufficient time to complete the international experience before the termination date of the fellowship grant under which he/she is supported. These supplementary grants provide support for a Fellow to conduct thesis/dissertation research or to undertake studies at a site outside of the United States. Before the international study or thesis/dissertation research travel may commence, a Fellow must have completed one academic year of full-time study, as defined by the institution, under the fellowship appointment and arrangements must have been formalized for the Fellow to study and/or conduct research in the foreign location(s).

Estimated funds for supplemental grants in FY 2001 are approximately $60,000. These funds are obtained from no-year funds drawn from expired fellowship grants with unspent funds remaining. CSREES has determined that no FY 2001 appropriations will be targeted to supplemental grants supporting special international study or thesis/dissertation research travel allowances. For each travel allowance, the institution may request up to $10,000. Travel allowance monies may be used only to pay travel and living expenses for the Fellow while the Fellow is on the specific international assignment as proposed in the application for the special international study or thesis/dissertation research travel allowance. No limitation is placed on the number of applications an institution may submit. Awards will be made to the extent possible based on the review of the proposal and subject to the availability of funds.

C. Selection Process and Evaluation Criteria

Applications for the special international travel allowances will be evaluated as they are received until available funds for the supplemental grants are exhausted. Upon receipt of an application, CSREES staff will first determine the eligibility of the Fellow for whom the application was submitted for an international travel experience. Eligible and complete requests then will be reviewed by professional staff from USDA or other Federal agencies, as appropriate. Since awards for supplemental grants will be made as reviews are completed, there is no assurance funds will be available late in the application period for every acceptable proposal.

The six evaluation criteria are:

1. 10 points—Destination and duration—the degree to which the destination and duration of the travel experience is appropriate for enhancing the Fellow's academic program.

2. 30 points—Travel experience activities—the degree to which the specific international experiences contribute to the Fellow's program of study.

3. 20 points—Advance preparations—the degree to which the proposed study or research activities are well-planned, including the likelihood that these activities will come to fruition and that the participation of identified personnel will materialize.

4. 10 points—Budget—the degree to which the budget for the international experience is justified.

5. 20 points—Personnel—the degree to which the personnel, both U.S. and international, involved with the travel experience have the appropriate credentials and experience to direct the Fellow's international experience, and the likelihood that their participation as mentors, trainers, advisors, or teachers will contribute to the educational value of the travel experiences.

6. 10 points—Supporting documentation—the degree to which letters from the dean of the college (or equivalent administrative unit) and the fellowship grant project director support the application.

D. How To Obtain Application Materials

An Application Kit containing program application materials can be downloaded from the HEP web site at http://www.reeusda.gov/serd/hep/hep.htm or will be made available to eligible institutions upon request. These materials include the administrative provisions, Request for Proposals, Summary Information, forms, instructions, and other relevant information needed to prepare and submit grant applications. Copies of the Application Kit may be requested from the Proposal Services Unit; Office of Extramural Programs; Cooperative State Research, Education, and Extension Service; U.S. Department of Agriculture; STOP 2245; 1400 Independence Avenue, SW.; Washington, DC 20250-2245. The telephone number is (202) 401-5048. When contacting the Proposal Services Unit, please indicate that you are requesting the Application Kit for the FY 2001 Graduate Fellowship (International) Supplemental Grants Program.

Application materials may also be requested via Internet by sending a message, that states that you wish to receive a copy of the application materials for the 2001 Graduate Fellowship (International) Supplemental Grants Program with your name, mailing address (not e-mail) and telephone number to psb@reeusda.gov. The materials will then be mailed to you (not e-mailed) as quickly as possible.

E. What To Submit

An original plus six (6) copies of each application must be submitted. Proposals should contain all requested information when submitted. Each proposal should be typed on 8½” × 11″ white paper, double-spaced, and on one side of the page only. Please note that the text of the proposal should be prepared using a font no smaller than 12 point and one-inch margins. Each copy of the application should be stapled securely in the upper left-hand corner (DO NOT BIND). All copies of the application must be submitted in one package. Applications transmitted via a facsimile (FAX) machine will not be accepted.

A separate application must be submitted by a fellowship grant project director at an eligible institution on behalf of each Fellow for which a special international study or thesis/dissertation research travel allowance is requested.

Each application must include an “Application for Funding,” Form CSREES-661, and a “Budget,” Form CSREES-55. To provide HEP with sufficient information upon which to evaluate the merits of the requests for a special international study or thesis/dissertation research travel allowance, each application for a supplemental grant must contain a narrative which provides the following: (1) The specific destination(s) and duration of the travel; (2) the specific study or thesis/dissertation research activities in which the Fellow will be engaged; (3) how the international experience will contribute to the Fellow's program of study; (4) a budget narrative specifying and justifying the dollar amount requested for the travel; (5) summary credentials of both the U.S. and international faculty or other professionals with whom the Fellow will be working during the international experience (summary credentials must not exceed three pages per person; “Summary Vita—Teaching Proposal,” Form CSREES-708, may be used for this purpose); (6) a letter from the dean of the Fellow's college or equivalent administrative unit supporting the Fellow's travel request and certifying that the travel experience will not jeopardize the Fellow's satisfactory progress toward degree completion; and (7) a letter from the fellowship grant project director certifying the Fellow's eligibility, the accuracy of the Fellow's travel request, and the relevance of the travel to the Fellow's advanced degree objectives.

The narrative portion of the application must not exceed 10 pages, excluding the summary vita/vitae.

F. Where and When To Submit

Applications for the special international study or thesis/dissertation research travel allowance supplemental grants may be submitted at any time prior to October 1, 2001. However, to allow time for CSREES to process the applications, proposals should be submitted at least three months prior to the proposed beginning date of the international research project. Applicants are urged to submit their proposals early.

Note: Proposals for these special supplemental awards should not be submitted as part of the application for a FY 2001/2002 Graduate Fellowship grant.)

Hand-delivered proposals (brought in person by the applicant or through a courier service) must be received prior to October 1, 2001, at the following address: Special International Study or Thesis/Dissertation Research Supplemental Grant; c/o Proposal Services Unit; Office of Extramural Programs; Cooperative State Research, Education, and Extension Service; U.S. Department of Agriculture; Room 1307, Waterfront Centre; 800 9th Street, SW.; Washington, DC 20024. The phone number is 202-401-5048. Proposals transmitted via a facsimile (fax) machine will not be accepted.

Proposals submitted through the U.S. mail must be received prior to October 1, 2001. Proposals submitted through the U.S. mail should be sent to the following address: Graduate Fellowship (International) Supplemental Grants Program; c/o Proposal Services Unit; Office of Extramural Programs; Cooperative State Research, Education, and Extension Service; U.S. Department of Agriculture; STOP 2245; 1400 Independence Avenue, SW.; Washington, DC 20250-2245.

G. Impact Reports

Awardees will be asked to submit an impact report at the conclusion of the international research experience. The impact report describes the accomplishments made by the Fellow as a result of the international research experience. This report should be submitted to: Graduate Fellowship Program; CSREES/SERD/HEP, USDA; STOP 2251; 1400 Independence Ave., SW.; Washington, DC 20250-2251.

Done at Washington, DC, this 11th day of January, 2001.
Colien Hefferan,
Administrator, Cooperative State Research, Education, and Extension Service.

[FR Doc. 01-1492 Filed 1-18-01; 8:45 am]

BILLING CODE 3410-22-P